DEPARTMENT OF DEFENSE

Office of the Secretary

[Transmittal No. 24-106]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-106, Policy Justification, and Sensitivity of Technology.

Dated: November 18, 2025.
Stephanie J. Bost,
Alternate OSD Federal Register Liaison Officer, Department of Defense.

Transmittal No. 24-106

Notice of Proposed Issuance of Letter of Offer Pursuant to Section 36(b)(1) of the Arms Export Control Act, as amended

(i) Prospective Purchaser: Government of Australia

(ii) Total Estimated Value:

Major Defense Equipment * | $300 million
Other | $105 million
TOTAL | $405 million

(iii) Description and Quantity or Quantities of Articles or Services under Consideration for Purchase:

Major Defense Equipment:

Up to one hundred (100) Advanced Anti-Radiation Guided Missiles-Extended Range (AARGM-ER) with global positioning system (GPS) precise positioning system (PPS) provided by Selective Availability Anti-Spoofing Module (SAASM) or M-Code

Up to twenty-four (24) AGM-88G AARGM-ER guidance sections (spares)

Up to twenty-four (24) AGM-88G AARGM-ER control sections (spares)

Non-Major Defense Equipment:

The following non-MDE items will also be included: missile containers; component parts and support equipment; repair; software (classified and unclassified); publications (Classified and Unclassified); training (classified and unclassified); transportation; United States (U.S.) Government and contractor engineering support; and other related elements of logistics and program support.

(iv) Military Department: Navy (AT-P-ASV)

(v) Prior Related Cases, if any: AT-P-ASA

(vi) Sales Commission, Fee, etc., Paid, Offered, or Agreed to be Paid: None known

(vii) Sensitivity of Technology Contained in the Defense Article or Defense Services Proposed to be Sold: See Attached Annex

(viii) Date Report Delivered to Congress: September 27, 2024

* as defined in Section 47(6) of the Arms Export Control Act.

POLICY JUSTIFICATION

Australia—Advanced Anti-Radiation Guided Missiles-Extended Range

The Government of Australia has requested to buy up to one hundred (100) Advanced Anti-Radiation Guided Missiles-Extended Range (AARGM-ER) with global positioning system (GPS) precise positioning system (PPS) provided by Selective Availability Anti-Spoofing Module (SAASM) or M-Code; up to twenty-four (24) AGM-88G AARGM-ER guidance sections (spares); and up to twenty-four (24) AGM-88G AARGM-ER control sections (spares). The following non-MDE items will also be included: missile containers; component parts and support equipment; repair; software (classified and unclassified); publications (classified and unclassified); training (classified and unclassified); transportation; U.S. Government and contractor engineering support; and other related elements of logistics and program support. The estimated total cost is $405 million.

This proposed sale will support the foreign policy and national security objectives of the U.S. Australia is one of our most important allies in the Western Pacific. The strategic location of this political and economic power contributes significantly to ensuring peace and economic stability in the Western Pacific. It is vital to the U.S. national interest to assist our ally in developing and maintaining a strong and ready self-defense capability.

The proposed sale will improve the Government of Australia's capability to meet current and future threats by providing the capability to suppress and destroy land or sea-based radar emitters associated with enemy air defenses, thereby improving survivability of tactical aircraft. Australia will have no difficulty absorbing this equipment into its armed forces.

The proposed sale of this equipment and support will not alter the basic military balance in the region.

The principal contractor will be Northrop Grumman Systems, located in Falls Church, VA. There are no known offset agreements proposed in connection with this potential sale.

Implementation of this proposed sale will require approximately four U.S. Government and one contractor representative to travel to Australia on a temporary basis in conjunction with program technical oversight and support requirements, including program and technical reviews.

There will be no adverse impact on U.S. defense readiness as a result of this proposed sale.

Transmittal No. 24-106

Notice of Proposed Issuance of Letter of Offer Pursuant to Section 36(b)(1) of the Arms Export Control Act

Annex

Item No. (vii)

(vii) Sensitivity of Technology:

1. The AGM-88G Advanced Anti-Radiation Guided Missile-Extended Range (AARGM-ER) weapon system is an air-to-ground missile intended for suppression of enemy air defenses (SEAD) and destruction of enemy air defenses (DEAD) missions. AARGM-ER provides suppression or destruction of enemy radar and denies the enemy the use of air defense systems, thereby improving the survivability of tactical aircraft. AGM-88G AARGM-ER Captive Air Training Missiles (CATM) are used by pilots when training for SEAD/DEAD missions.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Australia can provide substantially the same degree of protection for the technology being released as the U.S. Government. This sale is necessary in furtherance of the U.S. foreign policy and national security objectives outlined in the Policy Justification.

5. All defense articles and services listed in this transmittal have been authorized for release and export to the Government of Australia.

[FR Doc. 2025-20501 Filed 11-20-25; 8:45 am]

BILLING CODE 6001-FR-P